NUCLEAR REGULATORY COMMISSION

[Docket No. 70-143]

Nuclear Fuel Services, Inc.; Notice of Receipt of Amendment Request and Opportunity To Request a Hearing for Oxide Conversion Building and Effluent Processing Building in the Blended Low-Enriched Uranium Complex

AGENCY: Nuclear Regulatory Commission.

ACTION: Notice of receipt of amendment request and opportunity to request a hearing.

DATES: A request for a hearing must be filed on or before January 23, 2004.

FOR FURTHER INFORMATION CONTACT: For further information, please contact Michael A. Lamastra, Fuel Cycle Facilities Branch, Division of Fuel Cycle Safety and Safeguards, Office of Nuclear Material Safety and Safeguards, U.S. Nuclear Regulatory Commission, Mail Stop T-8-A-33, Washington, DC 20555-0001. Telephone (301) 415-8139; fax number: (301) 415-5955; e-mail; mxl2@nrc.gov.

SUPPLEMENTARY INFORMATION:

I. Introduction

The U.S. Nuclear Regulatory Commission (NRC) has received, by letter dated October 23, 2003, a request from Nuclear Fuel Services, Inc. (NFS), to amend its NRC Special Nuclear Materials License SNM-124, to authorize processing operations in the Oxide Conversion Building (OCB) and the Effluent Processing Building (EPB) at the Blended Low-Enriched Uranium (BLEU) Complex. The request is the third of three license amendment requests planned to support operations associated with downblending and conversion of high-enriched uranium materials to low-enriched uranium oxides.

NFS is currently manufacturing high-enriched nuclear reactor fuel at its facility in Erwin, Tennessee. NFS is constructing a new complex at the Erwin site to manufacture low-enriched nuclear reactor fuel. NFS is requesting this amendment to authorize operations that will convert liquid uranyl nitrate solutions into solid uranium oxide powder as part of the process for downblending and conversion of high-enriched uranium materials into low-enriched uraniumoxide. After the material is converted to uranium oxide powder, it will be transferred to another facility for fabrication of reactor fuel assemblies.

The October 23, 2003, amendment application contains a proprietary Integrated Safety Analysis (ISA) Summary for the OCB and EPB operations. By letter dated November 14, 2003, NFS provided a non-proprietary version of the ISA Summary. By letters dated October 24, 2003, NFS provided revisions to its Emergency Plan and its Fundamental Nuclear Material Control Plan to incorporate the new operations. By letter dated November 3, 2003, NFS provided a revision to its Physical Security Plan for Special Nuclear Material of Low Strategic Significance. These submittals comprise the content of the license amendment application.

This application will be reviewed by the staff for conformance with 10 CFR parts 20, 51, 70, 73, and 74, using NUREG-1520, “Standard Review Plan for the Review of a License Application for a Fuel Cycle Facility” and other applicable agency regulations and guidance. If NRC approves the request, the approval will be documented in an amendment to NRC Special Nuclear Materials License SNM-124. However, before approving the request, NRC will need to make the findings required by the Atomic Energy Act of 1954, as amended, and NRC regulations. These findings will be documented in a Safety Evaluation Report and either an Environmental Assessment (EA) and Finding of No Significant Impact (FONSI), or an Environmental Impact Statement (EIS).

By letter dated June 28, 2002, the NRC issued an EA/FONSI to support the first amendment request for this project. This action was noticed in the Federal Register on July 9, 2002 (67 FR 45555). The NRC staff may use this assessment for additional information in developing the EA/FONSI or EIS for this action.

II. Notice of Opportunity To Request a Hearing

NRC also provides notice that this is a proceeding on an application for an amendment of a license falling within the scope of 10 CFR part 2, Subpart L, “Informal Hearing Procedures for Adjudications in Materials and Operator Licensing Proceedings.” Pursuant to § 2.1205(a), any person whose interest may be affected by this proceeding may file a request for a hearing. In accordance with § 2.1205(d), a request for hearing must be filed within 30 days of the publication of this notice in the Federal Register. The request for a hearing must be filed with the Office of the Secretary, either:

A. By delivery to the Rulemaking and Adjudications Staff of the Office of the Secretary at One White Flint North, 11555 Rockville Pike, Rockville, MD 20852-2738, between 7:45 a.m. and 4:15 p.m., on Federal workdays; or

B. By mail or telegram addressed to the Secretary, U.S. Nuclear Regulatory Commission, Washington, DC 20555, Attention: Rulemaking and Adjudications Staff. Because of continuing disruptions in the delivery of mail to United States Government offices, it is requested that requests for hearing be transmitted to the Secretary of the Commission either by means of facsimile transmission to 301-415-1101, or by e-mail to hearingdocket@nrc.gov.

In accordance with 10 CFR 2.1205(f), each request for a hearing must also be served, by delivering it personally or by mail, to:

A. The applicant, Nuclear Fuel Services, 1205 Banner Hill Road, Erwin, Tennessee 37650-9718. A copy of the request for hearing should also be sent to the attorney for the licensee, Daryl Shapiro, c/o Shaw Pittman, L.L.P., 2300 N Street, NW., Washington, DC 20037; and

B. The NRC staff, by delivery to the Office of the General Counsel, U.S. Nuclear Regulatory Commission, One White Flint North, 11555 Rockville Pike, Rockville, MD 20852-2738, between 7:45 a.m. and 4:15 p.m., on Federal workdays, or by mail addressed to the Office of the General Counsel, U.S. Nuclear Regulatory Commission, Washington, DC 20555. Because of continuing disruptions in the delivery of mail to United States Government offices, it is requested that requests for hearing be transmitted to the Office of the General Counsel either by means of facsimile transmission to 301-415-3725, or by e-mail to OGCMailCenter@nrc.gov.

In addition to meeting other applicable requirements of 10 CFR part 2 of the NRC's regulations, a request for a hearing filed by a person other than an applicant must describe in detail:

A. The interest of the requestor in the proceeding:

1. How that interest may be affected by the results of the proceeding, including the reasons why the requestor should be permitted a hearing, with particular reference to the factors set out in § 2.1205(h);

2. The requestor's areas of concern about the licensing activity that is the subject matter of the proceeding; and

3. The circumstances establishing that the request for a hearing is timely in accordance with § 2.1205(d).

III. Further Information

In accordance with 10 CFR 2.790 of the NRC's “Rules of Practice,” details with respect to this action, including the application for the amendment and supporting documentation, are available electronically for public inspection and copying from the Publicly Available Records (PARS) component of NRC's document system (ADAMS). ADAMS is accessible from the NRC Web site at http://www.nrc.gov/reading-rm/adams.html. These documents may also be viewed electronically on the public computers located at the NRC's Public Document Room (PDR), O1-F21, One White Flint North, 11555 Rockville Pike, Rockville, MD 20852. The PDR reproduction contractor will copy documents for a fee. The documents include:

A. NFS License Amendment Request dated October 23, 2003.

1. Cover Letter (ADAMS accession number ML033350258).

2. Attachment 1, Page Changes to License SNM-124 (ADAMS accession number ML033420721).

B. Non-proprietary ISA Summary dated November 14, 2003, Cover Letter and Attachment (ADAMS accession number ML033380535).

C. Environmental Assessment for First License Amendment dated June 28, 2002 (ADAMS accession number ML021790068).

Attachments II and III of the NFS license amendment request dated October 23, 2003, contain proprietary information and are being withheld from the public pursuant to 10 CFR 2.790. The Physical Safeguards Plan and the Fundamental Nuclear Material Control Plan also are deemed proprietary information and are being withheld from the public pursuant to 10 CFR 2.790(d). In addition, the Emergency Plan Revisions are sensitive, homeland security information, and are not publicly available.

Dated at Rockville, Maryland, this 17th day of December 2003.
For the Nuclear Regulatory Commission.
Gary S. Janosko,
Chief, Fuel Cycle Facilities Branch, Division of Fuel Cycle Safety, and Safeguards, Office of Nuclear Material Safety and Safeguards.

[FR Doc. 03-31686 Filed 12-23-03; 8:45 am]

BILLING CODE 7590-01-P